DEPARTMENT OF HOMELAND SECURITY

Coast Guard

33 CFR Part 117

[Docket No. USCG-2011-0598]

Drawbridge Operation Regulations; Passaic River, Jersey City, NJ

AGENCY: Coast Guard, DHS.

ACTION: Notice of temporary deviation from regulations.

SUMMARY: The Commander, First Coast Guard District, has issued a temporary deviation from the regulation governing the operation of the Route 1 & 9 Bridge across the Passaic River, mile 1.8, at Jersey City, New Jersey. The deviation is necessary to facilitate bridge painting operations at the bridge. This deviation allows the bridge to remain in the closed position for 58 days.

DATES: This deviation is effective from August 1, 2011 through September 27, 2011.

ADDRESSES: Documents mentioned in this preamble as being available in the docket are part of docket USCG-2011-0598 and are available online at& http://www.regulations.gov, inserting USCG-2011-0598 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, joe.m.arca@uscg.mil or telephone (212) 668-7165. If you have questions on viewing the docket, call Renee V. Wright, Program Manager, Docket Operations, telephone 202-366-9826.

SUPPLEMENTARY INFORMATION:

The Route 1 & 9 Bridge has a vertical clearance of 40 feet at mean high water, and 45 feet at mean low water in the closed position. The existing drawbridge operating regulations are listed at 33 CFR 117.739(b). The waterway is predominantly used by commercial operators.

On December 13, 2010, the owner of the bridge, New Jersey Department of Transportation, requested a temporary deviation to facilitate bridge painting operations.

On January 27, 2011, the Coast Guard published a temporary deviation (76 FR 4819) from the operation regulations. The temporary deviation allowed the bridge owner to require a two hour advance notice for bridge openings and several closures of short duration to facilitate bridge painting.

As a result of severe winter weather in 2011, the bridge painting project fell behind schedule; therefore, the bridge painting work will not be completed by July 31, 2011, when the first temporary deviation will expire.

We received a request for a second temporary deviation from the bridge owner on June 13, 2011, requesting authorization to allow the bridge to remain in the closed position from August 1, 2011 through September 30, 2011, to facilitate completion of the bridge painting work. We were not able to grant a temporary deviation for the additional 60 days requested because that would exceed the maximum of 180 days allowable for temporary deviations from the operation regulations.

Therefore, under this temporary deviation the bridge may remain in the closed position for 58 days from August 1, 2011 through September 27, 2011, to facilitate completion of the bridge painting. Vessels able to pass under the closed draw may do so at any time.

The waterway users were advised of the second 58 day temporary deviation necessary to complete the bridge painting. No objections were received.

In accordance with 33 CFR 117.35(e), the bridge must return to its regular operating schedule immediately at the end of the designated time period. This deviation from the operating regulations is authorized under 33 CFR 117.35.

Dated: July 27, 2011.
Gary Kassof,
Bridge Program Manager, First Coast Guard District.

[FR Doc. 2011-19858 Filed 8-4-11; 8:45 am]

BILLING CODE 9110-04-P